EQUAL EMPLOYMENT OPPORTUNITY COMMISSION

Agency Information Collection Activities: Proposed Collection; Submission for OMB Review

AGENCY: Equal Employment Opportunity Commission.

ACTION: Final notice of submission for OMB review.

SUMMARY: In accordance with the Paperwork Reduction Act of 1995, the Equal Employment Opportunity Commission (EEOC) hereby gives notice that it has submitted to the Office of Management and Budget (OMB) a request to approve a new information collection as described below.

DATES: Written comments on this final notice must be submitted on or before March 1, 2007.

ADDRESSES: The Request for Clearance (SF 83-I), supporting statement, and other documents submitted to OMB for review may be obtained from: Brett Brenner, Attorney Advisor, 1801 L Street, NW., Washington, DC 20507. Comments on this final notice must be submitted to Brenda Aguilar, Office of Information and Regulatory Affairs, Office of Management and Budget, 725 17th Street, NW., Room 10235, New Executive Office Building, Washington, DC 20503 or electronically mailed to baguilar@omb.eop.gov. Comments should also be sent to Stephen Llewellyn, Executive Officer, Executive Secretariat, Equal Employment Opportunity Commission, 10th Floor, 1801 L Street, NW., Washington, DC 20507. As a convenience to commentators, the Executive Secretariat will accept comments totaling six or fewer pages by facsimile (“FAX”) machine. This limitation is necessary to assure access to the equipment. The telephone number of the FAX receiver is (202) 663-4114. (This is not a toll-free number.) Receipt of FAX transmittals will not be acknowledged, except that the sender may request confirmation of receipt by calling the Executive Secretariat staff at (202) 663-4070 (voice) or (202) 663-4074 (TTY). (These are not toll-free telephone numbers.)

FOR FURTHER INFORMATION CONTACT: Cynthia Pierre, Director, Field Management Programs, Office of Field Programs, at (202) 663-7115. This notice is also available in the following formats: large print, Braille, audio tape and electronic file on computer disk. Requests for this notice in an alternative format should be made to the EEOC Publications Center at 1-800-669-3362.

SUPPLEMENTARY INFORMATION: A notice that EEOC would be submitting this request was published in the Federal Register on September 7, 2006, allowing for a 60-day public comment period. Two comments were received. The first comment questioned whether the three questions were enough to serve as the “sole component, or perhaps even the primary component, of an accurate evaluation” of the Contact Center's quality of service. The comment asked that the questionnaire be expanded to include more questions to provide a “significantly more precise and thorough sense of potential claimants' experience” with the Center. The suggested additions to the questionnaire dealt with responsiveness, e.g., the type of information requested, if it was communicated clearly, if it was answered in a timely fashion and if the Center was able to answer the caller's question. The second comment, besides expressing general opposition to the Contact Center as a whole, states that the survey is not an adequate indicator of performance and expresses concern that the survey is too short.

The EEOC is not relying on the three questions in the customer service survey as the sole, or even the primary, indicator of Contact Center performance. However, capturing the level of customer satisfaction is important and is a factor in judging the performance of the Center. Additionally, the Contact Center currently collects data and performance metrics that answer many of the concerns expressed in the comment, including the time it takes to answer a call and the type of information requested by a caller. Further, the EEOC regularly monitors calls on a live and recorded basis to ensure the accuracy and quality of the information provided by the Center. Therefore, we believe that the customer survey is adequate for its intended purpose.

Overview of This Information Collection

Collection Title: EEOC National Contact Center Customer Satisfaction Survey.

OMB No.: None.

Frequency of Report: On occasion.

Description of Affected Public: Individuals or households; Businesses or other for profit, not-for-profit institutions; state or local governments.

Responses: 200,000.

Reporting Hours: 5,722.

Federal Cost: 0.

Abstract: Voluntary customer satisfaction survey for the users of the EEOC National Contact Center. The survey is necessary to gauge customer satisfaction and to assist in determining contract performance and guide possible changes in the operation of the Contact Center.

Burden Statement: The estimated number of respondents is approximately 200,000 people. Over the past six months, the NCC has averaged approximately 51,000 contacts from the public each month. Because the survey is voluntary there is no way to accurately predict the number of users who will agree to take the survey. The contractor estimates that, based on its experience with similar surveys the response rate will be between 25% and 35%. The contractor also estimates that if the respondent does not need to have the satisfaction questions repeated and responds immediately after hearing the complete response, the survey will take approximately 1 minute 43 seconds to administer. The burden is estimated at 5,722 hours. We estimated 200,000 annual surveys completed at 1 minute and 43 seconds per survey. There is no annualized cost to respondents.

Dated: January 19, 2007.
For the Commission.
Naomi C. Earp,
Chair.

[FR Doc. E7-1357 Filed 1-29-07; 8:45 am]

BILLING CODE 6570-01-P